DEPARTMENT OF ENERGY

Federal Energy Regulatory Commission

Combined Notice of Filings #1

Take notice that the Commission received the following electric corporate filings:

Docket Numbers: EC23-95-000.

Applicants: Quantum Pleasants, LLC, ETEM Remediation Two LLC, Pleasants LLC, Energy Harbor LLC.

Description: Joint Application for Authorization Under Section 203 of the Federal Power Act of Quantum Pleasants, et al.

Filed Date: 6/8/23.

Accession Number: 20230608-5174.

Comment Date: 5 p.m. ET 6/29/23.

Take notice that the Commission received the following exempt wholesale generator filings:

Docket Numbers: EG23-191-000.

Applicants: ETEM Remediation Two LLC.

Description: ETEM Remediation Two LLC submits Notice of Self-Certification of Exempt Wholesale Generator Status.

Filed Date: 6/9/23.

Accession Number: 20230609-5206.

Comment Date: 5 p.m. ET 6/30/23.

Docket Numbers: EG23-192-000.

Applicants: Glover Creek Solar, LLC.

Description: Glover Creek Solar, LLC submits Notice of Self-Certification of Exempt Wholesale Generator Status.

Filed Date: 6/12/23.

Accession Number: 20230612-5107.

Comment Date: 5 p.m. ET 7/3/23.

Docket Numbers: EG23-193-000.

Applicants: PGR 2022 Lessee 9, LLC.

Description: PGR 2022 Lessee 9, LLC submits Notice of Self-Certification of Exempt Wholesale Generator Status.

Filed Date: 6/12/23.

Accession Number: 20230612-5109.

Comment Date: 5 p.m. ET 7/3/23.

Take notice that the Commission received the following electric rate filings:

Docket Numbers: ER20-1298-005.

Applicants: Midcontinent Independent System Operator, Inc.

Description: Compliance filing: 2023-06-12_MISO TO's Order 864 Additional Deficiency Response to be effective N/A.

Filed Date: 6/12/23.

Accession Number: 20230612-5129.

Comment Date: 5 p.m. ET 7/3/23.

Docket Numbers: ER23-1407-001.

Applicants: Transource Pennsylvania, LLC, PJM Interconnection, L.L.C.

Description: Tariff Amendment: Transource Pennsylvania, LLC submits tariff filing per 35.17(b): Transource Responses to Deficiency Letter in ER23-1407 to be effective 5/16/2023.

Filed Date: 6/12/23.

Accession Number: 20230612-5104.

Comment Date: 5 p.m. ET 7/3/23.

Docket Numbers: ER23-1731-001.

Applicants: GSG 6, LLC.

Description: Tariff Amendment: Supplement to SFA with Shady Oaks 2 with Waivers to be effective 4/28/2023.

Filed Date: 6/12/23.

Accession Number: 20230612-5098.

Comment Date: 5 p.m. ET 7/3/23.

Docket Numbers: ER23-2111-000; TS23-7-000.

Applicants: Umbriel Solar, LLC, Umbriel Solar, LLC.

Description: Request for Waiver, et al. of Umbriel Solar, LLC.

Filed Date: 6/9/23.

Accession Number: 20230609-5115.

Comment Date: 5 p.m. ET 6/30/23.

Docket Numbers: ER23-2114-000.

Applicants: Energy Harbor LLC.

Description: Request for Waiver and Expedited Consideration of Energy Harbor LLC.

Filed Date: 6/8/23.

Accession Number: 20230608-5172.

Comment Date: 5 p.m. ET 6/29/23.

Docket Numbers: ER23-2115-000.

Applicants: ITC Midwest LLC.

Description: Tariff Amendment: Cancellation of Agreements with CIPCO to be effective 6/20/2023.

Filed Date: 6/12/23.

Accession Number: 20230612-5039.

Comment Date: 5 p.m. ET 7/3/23.

Docket Numbers: ER23-2116-000.

Applicants: PJM Interconnection, L.L.C.

Description: § 205(d) Rate Filing: First Revised ISA, Service Agreement No. 5472; Queue No. AD2-194 to be effective 5/11/2023.

Filed Date: 6/12/23.

Accession Number: 20230612-5058.

Comment Date: 5 p.m. ET 7/3/23.

Docket Numbers: ER23-2117-000.

Applicants: NSTAR Electric Company.

Description: Tariff Amendment: Cancellation of Medway Grid, LLC—Engineering, Design and Procurement Agreement to be effective 6/13/2023.

Filed Date: 6/12/23.

Accession Number: 20230612-5068.

Comment Date: 5 p.m. ET 7/3/23.

Docket Numbers: ER23-2118-000.

Applicants: PJM Interconnection, L.L.C.

Description: § 205(d) Rate Filing: Original UCSA, Service Agreement No. 6946; Queue Position J1464 to be effective 5/12/2023.

Filed Date: 6/12/23.

Accession Number: 20230612-5069.

Comment Date: 5 p.m. ET 7/3/23.

Docket Numbers: ER23-2119-000.

Applicants: SP Cimarron I, LLC.

Description: § 205(d) Rate Filing: SP Cimarron I MBR Tariff Amendment Filing (Seller Category) to be effective 8/11/2023.

Filed Date: 6/12/23.

Accession Number: 20230612-5089.

Comment Date: 5 p.m. ET 7/3/23.

Docket Numbers: ER23-2120-000.

Applicants: Campo Verde Solar, LLC.

Description: § 205(d) Rate Filing: Campo Verde MBR Tariff Amendment Filing (Seller Category) to be effective 8/11/2023.

Filed Date: 6/12/23.

Accession Number: 20230612-5091.

Comment Date: 5 p.m. ET 7/3/23.

Docket Numbers: ER23-2121-000.

Applicants: Freeport-McMoRan Copper & Gold Energy Services, LLC.

Description: Compliance filing: WECC Soft Price Cap September 2022 Sale to be effective N/A.

Filed Date: 6/12/23.

Accession Number: 20230612-5094.

Comment Date: 5 p.m. ET 7/3/23.

Docket Numbers: ER23-2122-000.

Applicants: Jersey Central Power & Light Company.

Description: Jersey Central Power & Light Submits A Notice of Cancellation of the Interchange Agreement between Central Hudson Gas & Electric Corporation and Jersey Central Power & Light Company, designated as JCP&L Rate Schedule FPC 34.

Filed Date: 6/9/23.

Accession Number: 20230609-5215.

Comment Date: 5 p.m. ET 6/30/23.

Docket Numbers: ER23-2123-000.

Applicants: Silver Run Electric, LLC, PJM Interconnection, L.L.C.

Description: § 205(d) Rate Filing: Silver Run Electric, LLC submits tariff filing per 35.13(a)(2)(iii: Silver Run Incentive Rate Abandonment Recovery And Formula Rate Updates to be effective 8/14/2023.

Filed Date: 6/12/23.

Accession Number: 20230612-5113.

Comment Date: 5 p.m. ET 7/3/23.

Docket Numbers: ER23-2124-000.

Applicants: PJM Interconnection, L.L.C.

Description: § 205(d) Rate Filing: Amendment to NSA, SA No. 6376; Queue Nos. AC2-100/AD1-131 (amend) to be effective 8/12/2023.

Filed Date: 6/12/23.

Accession Number: 20230612-5114.

Comment Date: 5 p.m. ET 7/3/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: June 12, 2023.
Debbie-Anne A. Reese,
Deputy Secretary.

[FR Doc. 2023-12967 Filed 6-15-23; 8:45 am]

BILLING CODE 6717-01-P